DEPARTMENT OF ENERGY

Federal Energy Regulatory Commission

Combined Notice of Filings #2

Take notice that the Commission received the following exempt wholesale generator filings:

Docket Numbers: EG15-28-000.

Applicants: Ingenco Wholesale Power, L.L.C.

Description: Self-Certification of EG of Ingenco Wholesale Power, LLC.

Filed Date: 12/12/14.

Accession Number: 20141212-5192.

Comments Due: 5 p.m. ET 1/2/15.

Take notice that the Commission received the following electric rate filings:

Docket Numbers: ER10-2570-017.

Applicants: Shady Hills Power Company, L.L.C.

Description: Triennial Market Power Analysis of Shady Hills Power Company, L.L.C.

Filed Date: 12/16/14.

Accession Number: 20141216-5223.

Comments Due: 5 p.m. ET 2/17/15.

Docket Numbers: ER10-2906-007; ER11-4393-005; ER10-2911-007; ER10-2910-007; ER10-2909-007; ER10-2908-007; ER10-2900-008; ER10-2899-007; ER10-2898-012.

Applicants: Morgan Stanley Capital Group Inc., MS Solar Solutions Corp., Naniwa Energy LLC, Power Contract Financing II, Inc., Power Contract Financing II, L.L.C., South Eastern Electric Development Corp., South Eastern Generating Corp., Utility Contract Funding II, LLC, TAQA Gen X LLC.

Description: Supplement to June 27, 2014 Updated Market Power Analysis of the Morgan Stanley Utilities.

Filed Date: 12/10/14.

Accession Number: 20141210-5163.

Comments Due: 5 p.m. ET 12/24/14.

Docket Numbers: ER15-359-001.

Applicants: Samchully Power & Utilities 1 LLC.

Description: Supplement to November 6, 2014 and November 25, 2014 Samchully Power & Utilities 1 LLC tariff filing.

Filed Date: 12/16/14.

Accession Number: 20141216-5173.

Comments Due: 5 p.m. ET 12/23/14.

Docket Numbers: ER15-638-000.

Applicants: Southern California Edison Company.

Description: § 205(d) rate filing per 35.13(a)(2)(iii): IFA and Distribution Service Agmt with City of Industry—Industry Hills Load to be effective 12/17/2014.

Filed Date: 12/16/14.

Accession Number: 20141216-5213.

Comments Due: 5 p.m. ET 1/6/15.

Take notice that the Commission received the following electric reliability filings

Docket Numbers: RD15-1-000.

Applicants: North American Electric Reliability Corporation, Western Electricity Coordinating Council.

Description: Petition of the North American Electric Reliability Corporation and Western Electricity Coordinating Council for Approval of Proposed Regional Reliability Standards VAR-002-WECC-2 and VAR-501-WECC-2.

Filed Date: 12/15/14.

Accession Number: 20141215-5324.

Comments Due: 5 p.m. ET 1/15/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2014.
Nathaniel J. Davis, Sr.,
Deputy Secretary.

[FR Doc. 2014-29899 Filed 12-19-14; 8:45 am]

BILLING CODE 6717-01-P